AGENCY FOR INTERNATIONAL DEVELOPMENT

Senior Executive Service: Membership of Performance Review Board

ACTION: Notice.

SUMMARY: This notice lists approved candidates who will comprise a standing roster for service on the Agency's 2018 SES Performance Review Board. The Agency will use this roster to select SES Performance Review Board members. The standing roster is as follows:

Allen, Colleen

Bader, Harry

Broderick, Deborah

Buckley, Ruth

Chan, Carol

Crumbly, Angelique

Detherage, Maria

Ehmann, Claire

Feinstein, Barbara

Foley, Jason

Girod, Gayle

Jenkins, Robert

Johnson, Mark

Koek, Irene

Kuyumjian, Kent

Leavitt, William

Lennon, Stephen

Lewis, Kimberly

Longi, Maria

Mahanand, Vedjai

Miranda, Roberto

Mitchell, Reginald

Moore, David

Ohlweiler, John

Pascocello, Susan

Peters, James

Shelat, Neilesh

Sokolowski, Alexander

Staley, Kenneth

Steele, Gloria

Vera, Mauricio

Voorhees, John

Walther, Mark

Warren, Gordon

Whyche-Shaw, Oren

FOR FURTHER INFORMATION CONTACT: Maryclare Whitehead, 202-216-3489.

Dated: August 7, 2018.
Karen Baquedano,
Director, Center for Performance Excellence, Human Capital and Talent Management, U.S. Agency for International Development.

[FR Doc. 2018-17601 Filed 8-14-18; 8:45 am]

BILLING CODE P